DEPARTMENT OF HEALTH AND HUMAN SERVICES

Administration for Community Living

Agency Information Collection Activities; Submission for OMB Review; Comment Request; Process Evaluation of the Long Term Care Ombudsman Program

AGENCY: Administration for Community Living, HHS.

ACTION: Notice.

SUMMARY: The Administration for Community Living (formerly the Administration on Aging (AoA)) is announcing that the continuation of collection of information listed below has been submitted to the Office of Management and Budget (OMB) for review and clearance under the Paperwork Reduction Act of 1995.

DATES: Submit written comments on the collection of information by November 21, 2016.

ADDRESSES: Submit written comments on the collection of information by fax 202-395-6974 to the OMB Desk Officer for ACL, Office of Information and Regulatory Affairs, OMB.

FOR FURTHER INFORMATION CONTACT: Susan Jenkins, 202-795-7369.

SUPPLEMENTARY INFORMATION: In compliance with 44 U.S.C. 3507, the Administration for Community Living (Formerly the Administration for Aging) has submitted the following proposed collection of information to OMB for review and clearance.

The purpose of the process evaluation is to obtain a thorough understanding of the LTCOP's structure and operations at the national, state and local levels; use of resources to carry out legislative mandates; the nature of program partnerships; and processes for sharing information on promising program practices and areas for improvement. Data collection for the process evaluation consists of two rounds. ACL seeks clearance for round one and provisional clearance for Round 2 dependent upon receiving final marked up surveys. The first round focuses on obtaining information from three respondent categories at the national and state levels: Federal staff, national stakeholders, and State ombudsmen. Data collection from these respondents will help inform and refine the second round of data collection focusing on obtaining information from respondents at the local level. These include local directors/regional representatives, local representatives, and volunteers. For example, data collected from Round 1 will serve to inform the subsequent data collection for Task 7 of the project. This task focuses on investigating how the ombudsman program has been addressing and affecting the changing landscape of long term services and supports (LTSS). State ombudsmen responses to questions about reforms in LTSS and home and community-based care will help identify states for further study and obtain information at the local level. This package addresses these two rounds of the project, with an emphasis on the first round.

In response to the 60-day Federal Register notice related to this proposed data collection and published on July 19, 2016, no relevant comments were was received. The proposed data collection tool may be found on the ACL Web site: http://www.aoa.acl.gov/Program_Results/Program_survey.aspx.

The total burden estimate for the remaining data collection is: 482.67 hours.

Dated: October 12, 2016.
Edwin L. Walker,
Acting Assistant Secretary for Aging.

[FR Doc. 2016-25416 Filed 10-19-16; 8:45 am]

BILLING CODE 4154-01-P